DEPARTMENT OF THE INTERIOR

National Park Service

[NPS-WASO-NAGPRA-NPS0032449; PPWOCRADN0-PCU00RP14.R50000]

Notice of Inventory Completion: The University of California, Berkeley, Berkeley, CA, and the United States Army Corps of Engineers, San Francisco District, San Francisco, CA

AGENCY: National Park Service, Interior.

ACTION: Notice.

SUMMARY: The University of California, Berkeley and the United States Army Corps of Engineers, San Francisco District have jointly completed an inventory of human remains and associated funerary objects, in consultation with the appropriate Indian Tribes or Native Hawaiian organizations, and have determined that there is a cultural affiliation between the human remains and associated funerary objects and present-day Indian Tribes or Native Hawaiian organizations. Lineal descendants or representatives of any Indian Tribe or Native Hawaiian organization not identified in this notice that wish to request transfer of control of these human remains and associated funerary objects should submit a written request to the University of California, Berkeley or the United States Army Corps of Engineers, San Francisco District. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the University of California, Berkeley or the United States Army Corps of Engineers, San Francisco District at the address in this notice by September 24, 2021.

FOR FURTHER INFORMATION CONTACT: Dr. Thomas Torma, NAGPRA Liaison, Office of the Vice Chancellor for Research, 119 California Hall, Berkeley, CA 94720-1500, telephone (512) 672-5388, email t.torma@berkeley.edu and/or Kathleen Ungvarsky, M.A., RPA, United States Army Corps of Engineers, San Francisco District, 450 Golden Gate Avenue, Suite 4-201, San Francisco, CA 94103-1001, telephone (415) 503-6842, email kathleen.ungvarsky@usace.army.mil.

SUPPLEMENTARY INFORMATION: Notice is here given in accordance with the Native American Graves Protection and Repatriation Act (NAGPRA), 25 U.S.C. 3003, of the completion of an inventory of human remains and associated funerary objects under the control of the University of California, Berkeley; Berkeley, CA, and the United States Army Corps of Engineers, San Francisco District, San Francisco, CA. The human remains and associated funerary objects were removed from around Humboldt Bay, Humboldt County, CA, and they are presently located at the University of California, Berkeley.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the University of California, Berkeley and the United States Army Corps of Engineers, San Francisco District professional staff in consultation with representatives of the Wiyot Tribe, California [previously listed as Table Bluff Reservation—Wiyot Tribe].

History and Description of the Remains

In October 1953, human remains representing, at minimum, 20 individuals were removed from CA-HUM-112 in Humboldt County, CA, by Albert B. Elsasser and James Allan Bennyhoff. The human remains had been discovered by F. Hodgkinson, the night editor for the Humboldt Times. The remains likely were exposed as a result of a United States Army Corps of Engineers, San Francisco District (USACE) project nearby, but whether they were removed from USACE-controlled property is unclear. Some museum records suggest that they were under the control of the USACE, while others suggest that they were under the jurisdiction of the Humboldt County Sheriff. Because the matter of control is unclear, this notice is being submitted jointly by the University of California, Berkeley and the United States Army Corps of Engineers, San Francisco District. As most of the human remains were sorted by skeletal element, the age and the sex of the individuals were not recorded. No known individuals were identified.

The 136 associated funerary objects are counted and described according to individual catalog entries as follows: 59 entries described as “Beads”; 25 entries described as “Bead”; 33 entries described as “Ornament”; one entry described as “Ornament Fragment”; one entry described as “Dentalia”; one entry described as “Arrowhead Fragment”; two entries described as “Flake”; one entry described as “Sinker (Fishing)”; one entry described as “Worked Stone”; one entry described as “Flakes”; two entries described as “Bone (tools)”; one entry described as “Potsherd”; one entry described as “Ceramic Fragment”; one entry described as “Knife”; one entry described as “Hook and Eye”; one entry described as “Rod”; one entry described as “Metal Fragments”; one entry described as “Cloth Fragments”; one entry described as “Tooth (elk)”; and one entry described as “Bone and beads.” Based on the condition of the human remains, the concentration of European-American manufactured goods, and the location of the human remains, these human remains likely belong to the victims of the Indian Island Massacre, which took place on February 26, 1860.

Most of the sites around Humboldt Bay date to the creation of the Bay approximately 5000-7000 years ago. Based on archeological and Wiyot oral traditional evidence, Wiyot have occupied this area since before the creation of Humboldt Bay. Wiyot culture is represented by the Bear River Band of the Rohnerville Rancheria, the Blue Lake Rancheria, and the Wiyot Tribe.

Determinations Made by the University of California, Berkeley and the United States Army Corps of Engineers, San Francisco District

Officials of the University of California, Berkeley and the United States Army Corps of Engineers, San Francisco District have determined that:

• Pursuant to 25 U.S.C. 3001(9), the human remains described in this notice represent the physical remains of at least 20 individuals of Native American ancestry.

• Pursuant to 25 U.S.C. 3001(3)(A), the 136 objects described in this notice are reasonably believed to have been placed with or near individual human remains at the time of death or later as part of the death rite or ceremony.

• Pursuant to 25 U.S.C. 3001(2), there is a relationship of shared group identity that can be reasonably traced between the Native American human remains and associated funerary objects and the Bear River Band of the Rohnerville Rancheria, California; Blue Lake Rancheria, California; and the Wiyot Tribe, California [previously listed as Table Bluff Reservation—Wiyot Tribe].

Additional Requestors and Disposition

Lineal descendants or representatives of any Indian Tribe or Native Hawaiian organization not identified in this notice that wish to request transfer of control of these human remains and associated funerary objects should submit a written request with information in support of the request to Dr. Thomas Torma, NAGPRA Liaison, Office of the Vice Chancellor for Research, 119 California Hall, Berkeley, CA 94720-1500, telephone (512) 672-5388, email t.torma@berkeley.edu and/or Kathleen Ungvarsky M.A., RPA, San Francisco District Archaeologist, 450 Golden Gate Avenue, Suite 4-201, San Francisco, CA 94103, telephone (415) 503-6842, email kathleen.ungvarsky@usace.army.mil, by September 24, 2021. After that date, if no additional requestors have come forward, transfer of control of the human remains and associated funerary objects to the Bear River Band of the Rohnerville Rancheria, California; Blue Lake Rancheria, California; and the Wiyot Tribe, California [previously listed as Table Bluff Reservation—Wiyot Tribe] may proceed.

The University of California, Berkeley and the United States Army Corps of Engineers, San Francisco District is responsible for notifying the Bear River Band of the Rohnerville Rancheria, California; Blue Lake Rancheria, California; and Wiyot Tribe, California [previously listed as Table Bluff Reservation—Wiyot Tribe] that this notice has been published.

Dated: August 11, 2021.
Melanie O'Brien,
Manager, National NAGPRA Program.

[FR Doc. 2021-18266 Filed 8-24-21; 8:45 am]

BILLING CODE 4312-52-P